DEPARTMENT OF LABOR

Employment and Training Administration

[TA-W-62,880]

Two Star Dog, Inc., Berkeley, CA; Notice of Termination of Investigation

In accordance with section 221 of the Trade Act of 1974, as amended, an investigation was initiated on January 21, 2008 in response to a petition filed by a company official on behalf of workers of Two Star Dog, Inc., Berkeley, California.

The petitioner has requested that the petition be withdrawn. Consequently, the investigation has been terminated.

Signed in Washington, DC, this 29th day of February 2008.
Richard Church,
Certifying Officer, Division of Trade Adjustment Assistance.

[FR Doc. E8-4435 Filed 3-6-08; 8:45 am]

BILLING CODE 4510-FN-P